DEPARTMENT OF THE INTERIOR

Bureau of Reclamation

Quarterly Status Report of Water Service, Repayment, and Other Water-Related Contract Negotiations

AGENCY: Bureau of Reclamation, Interior.

ACTION: Notice.

SUMMARY: Notice is hereby given of proposed contractual actions pending through December 31, 2000, and contract actions that have been completed or discontinued since the last publication of this notice on October 16, 2000. From the date of this publication, future quarterly notices during this calendar year will be limited to new, modified, discontinued, or completed contract actions. This annual notice should be used as a point of reference to identify changes in future notices. This notice is one of a variety of means used to inform the public about proposed contractual actions for capital recovery and management of project resources and facilities. Additional Bureau of Reclamation (Reclamation) announcements of individual contract actions may be published in the Federal Register and in newspapers of general circulation in the areas determined by Reclamation to be affected by the proposed action. Announcements may be in the form of news releases, legal notices, official letters, memorandums, or other forms of written material. Meetings, workshops, and/or hearings may also be used, as appropriate, to provide local publicity. The public participation procedures do not apply to proposed contracts for sale of surplus or interim irrigation water for a term of 1 year or less. Either of the contracting parties may invite the public to observe contract proceedings. All public participation procedures will be coordinated with those involved in complying with the National Environmental Policy Act.

ADDRESSES: The identity of the approving officer and other information pertaining to a specific contract proposal may be obtained by calling or writing the appropriate regional office at the address and telephone number given for each region in the supplementary information.

FOR FURTHER INFORMATION CONTACT: Sandra L. Simons, Manager, Water Contracts and Repayment Office, Bureau of Reclamation, PO Box 25007, Denver, Colorado 80225-0007; telephone 303-445-2902.

SUPPLEMENTARY INFORMATION: Pursuant to section 226 of the Reclamation Reform Act of 1982 (96 Stat. 1273) and 43 CFR 426.20 of the rules and regulations published in 52 FR 11954, Apr. 13, 1987, Reclamation will publish notice of the proposed or amendatory contract actions for any contract for the delivery of project water for authorized uses in newspapers of general circulation in the affected area at least 60 days prior to contract execution. Pursuant to the “Final Revised Public Participation Procedures” for water resource-related contract negotiations, published in 47 FR 7763, Feb. 22, 1982, a tabulation is provided of all proposed contractual actions in each of the five Reclamation regions. Each proposed action is, or is expected to be, in some stage of the contract negotiation process in 2001. When contract negotiations are completed, and prior to execution, each proposed contract form must be approved by the Secretary of the Interior, or pursuant to delegated or redelegated authority, the Commissioner of Reclamation or one of the regional directors. In some instances, congressional review and approval of a report, water rate, or other terms and conditions of the contract may be involved.

Public participation in and receipt of comments on contract proposals will be facilitated by adherence to the following procedures:

1. Only persons authorized to act on behalf of the contracting entities may negotiate the terms and conditions of a specific contract proposal.

2. Advance notice of meetings or hearings will be furnished to those parties that have made a timely written request for such notice to the appropriate regional or project office of Reclamation.

3. Written correspondence regarding proposed contracts may be made available to the general public pursuant to the terms and procedures of the Freedom of Information Act (80 Stat. 383), as amended.

4. Written comments on a proposed contract or contract action must be submitted to the appropriate regional officials at the locations and within the time limits set forth in the advance public notices.

5. All written comments received and testimony presented at any public hearings will be reviewed and summarized by the appropriate regional office for use by the contract approving authority.

6. Copies of specific proposed contracts may be obtained from the appropriate regional director or his designated public contact as they become available for review and comment.

7. In the event modifications are made in the form of a proposed contract, the appropriate regional director shall determine whether republication of the notice and/or extension of the comment period is necessary.

Factors considered in making such a determination shall include, but are not limited to: (I) the significance of the modification, and (ii) the degree of public interest which has been expressed over the course of the negotiations. As a minimum, the regional director shall furnish revised contracts to all parties who requested the contract in response to the initial public notice.

Acronym Definitions Used Herein

BON Basis of Negotiation

BCP Boulder Canyon Project

Reclamation Bureau of Reclamation

CAP Central Arizona Project

CUP Central Utah Project

CVP Central Valley Project

CRSP Colorado River Storage Project

D&MC Drainage and Minor Construction

FR Federal Register

IDD Irrigation and Drainage District

IDD Irrigation District

M&I Municipal and Industrial

NEPA National Environmental Policy Act

O&M Operation and Maintenance

P-SMBP Pick-Sloan Missouri Basin Program

PPR Present Perfected Right

RRA Reclamation Reform Act

R&B Rehabilitation and Betterment

SOD Safety of Dams

SRPA Small Reclamation Projects Act

WCUA Water Conservation and Utilization Act

WD Water District

Pacific Northwest Region: Bureau of Reclamation, 1150 North Curtis Road, Suite 100, Boise, Idaho 83706-1234, telephone 208-378-5346.

1. Irrigation, M&I, and miscellaneous water users; Idaho, Oregon, Washington, Montana, and Wyoming: Temporary or interim water service contracts for irrigation, M&I, or miscellaneous use to provide up to 10,000 acre-feet of water annually for terms up to 5 years; long-term contracts for similar service for up to 1,000 acre-feet of water annually.

2. Rogue River Basin Water Users, Rogue River Basin Project, Oregon: Water service contracts; $8 per acre-foot per annum.

3. Willamette Basin Water Users, Willamette Basin Project, Oregon: Water service contracts; $8 per acre-foot per annum.

4. Pioneer Ditch Company, Boise Project, Idaho; Clark and Edwards Canal and Irrigation Company, Enterprise Canal Company, Ltd., Lenroot Canal Company, Liberty Park Canal Company, Parsons Ditch Company, Poplar ID, Wearyrick Ditch Company, all in the Minidoka Project, Idaho; and Juniper Flat District Improvement Company, Wapinitia Project, Oregon: Amendatory repayment and water service contracts; purpose is to conform to the RRA (Public Law 97-293).

5. Bridgeport ID, Chief Joseph Dam Project, Washington: Warren Act contract for the use of an irrigation outlet in Chief Joseph Dam.

6. Palmer Creek WD Improvement Company, Willamette Basin Project, Oregon: Irrigation water service contract for approximately 13,000 acre-feet.

7. U. S. Fish and Wildlife Service and Boise-Kuna ID, Boise Project, Idaho: Memorandum of agreement for the use of approximately 400 acre-feet of storage space annually in Anderson Ranch Reservoir. Water to be used for wildlife mitigation purposes (ponds and wetlands).

8. North Unit ID and/or City of Madras, Deschutes Project, Oregon: Long-term municipal water service contract for provision of approximately 125 acre-feet annually from the project water supply to the City of Madras.

9. North Unit ID, Deschutes Project, Oregon: Repayment contract for reimbursable cost of dam safety repairs to Wickiup Dam under the SOD program.

10. North Unit ID, Deschutes Project, Oregon: Warren Act contract with cost of service charge to allow for use of project facilities to convey non-project water.

11. Baker Valley ID, Baker Project, Oregon: Warren Act contract with cost of service charge to allow for use of project facilities to store non-project water.

12. Trendwest Resorts, Yakima Project, Washington: Long-term water exchange contract for assignment of Teanaway River and Big Creek water rights to Reclamation for instream flow use in exchange for annual use of up to 3,500 acre-feet of water from Cle Elum Reservoir for a proposed resort development.

13. City of Cle Elum, Yakima Project, Washington: Contract for up to 2,170 acre-feet of water for municipal use.

14. Farmer's and Buck and Jones Ditch Associations, Rogue River Basin Project, Oregon: Long-term irrigation water service contract for provision of up to 4,475 acre-feet of stored water from Applegate Reservoir (a Corps of Engineers project) in exchange for the assignment of Little Applegate River natural flow rights to Reclamation for instream flow use.

15. Ochoco ID, Crooked River Project, Oregon: Contract for the deferment of the District's annual installment due December 31, 2000 and 2001, under the Ochoco Dam, SOD repayment contract.

16. Burley ID, Minidoka Project, Idaho-Wyoming: Supplemental and amendatory contract providing for the transfer of O&M of the headworks of the Main South Side Canal and works incidental thereto.

17. Minidoka ID, Minidoka Project, Idaho-Wyoming: Supplemental and amendatory contract providing for the transfer of O&M of the headworks of the Main North Side Canal and works incidental thereto.

18. Fremont-Madison ID, Minidoka Project, Idaho-Wyoming: Repayment contract for reimbursable cost of SOD modifications to Grassy Lake Dam.

19. Tualatin Valley ID, Tualatin Project, Oregon: Amendatory contract to allow for the addition of 419.5 acres and appropriate District obligation adjustments.

Mid-Pacific Region: Bureau of Reclamation, 2800 Cottage Way, Sacramento, California 95825-1898, telephone 916-978-5250.

1. Irrigation water districts, individual irrigators, M&I and miscellaneous water users, Mid-Pacific Region projects other than CVP: Temporary (interim) water service contracts for available project water for irrigation, M&I, or fish and wildlife purposes providing up to 10,000 acre-feet of water annually for terms up to 5 years; temporary Warren Act contracts for use of project facilities for terms up to 1 year; temporary conveyance agreements with the State of California for various purposes; long-term contracts for similar service for up to 1,000 acre-feet annually. Note. Copies of the standard forms of temporary water service contracts for the various types of service are available upon written request from the Regional Director at the address shown above.

2. Contractors from the American River Division, Buchanan Unit, Cross Valley Canal, Delta Division, Friant Division, Hidden Unit, Sacramento River Division, San Felipe Division, Shasta Division, Trinity River Division, and West San Joaquin Division, CVP, California: Early renewal of existing long-term contracts; long-term renewal of the interim renewal water service contracts expiring in 2001; water quantities for these contracts total in excess of 5.6M acre-feet. These contract actions will be accomplished through long-term renewal contracts pursuant to Public Law 102-575. Prior to completion of negotiation of long-term renewal contracts, existing interim renewal water service contracts may be renewed through successive interim renewal of contracts.

3. Redwood Valley County WD, SRPA, California: Restructuring the repayment schedule pursuant to Public Law 100-516.

4. El Dorado County Water Agency, CVP, California: M&I water service contract to supplement existing water supply: 15,000 acre-feet for El Dorado County Water Agency authorized by Public Law 101-514.

5. U.S. Fish and Wildlife Service, California Department of Fish and Game, Grasslands WD, CVP, California: Water service contracts to provide water supplies for refuges and private wetlands within the CVP pursuant to Public Law 102-575 and Federal Reclamation Laws; quantity to be contracted for is approximately 450,000 acre-feet.

6. Sutter Extension and Biggs-West Gridley WDs, Buena Vista Water Storage District, and the State of California Department of Water Resources, CVP, California: Pursuant to Public Law 102-575, conveyance agreements for the purpose of wheeling refuge water supplies and funding District facility improvements and exchange agreements to provide water for refuge and private wetlands.

7. Mountain Gate Community Services District, CVP, California: Amendment of existing long-term water service contract to include right to renew. This amendment will also conform the contract to current Reclamation law, including Public Law 102-575.

8. Santa Barbara County Water Agency, Cachuma Project, California: Repayment contract for SOD work on Bradbury Dam.

9. CVP Service Area, California: Temporary water purchase agreements for acquisition of 20,000 to 200,000 acre-feet of water for fish and wildlife purposes as authorized by the Central Valley Project Improvement Act for terms of up to 3 years.

10. City of Roseville, CVP, California: Execution of long-term Warren Act contract for conveyance of non-project water provided from the Placer County Water Agency. This contract will allow CVP facilities to be used to deliver non-project water to the City of Roseville for use within their service area.

11. Sacramento Municipal Utility District, CVP, California: Amendment of existing water service contract to allow for additional points of diversion and assignment of up to 30,000 acre-feet of CVP water to the Sacramento County Water Agency. The amended contract will conform to current Reclamation law.

12. Mercy Springs WD, CVP, California: Partial assignment of about 7,000 acre-feet of Mercy Springs WD's water service contract to Westlands WD for agricultural use.

13. Santa Barbara County Water Agency, Cachuma Project, California: Contract to transfer responsibility for O&M and O&M funding of certain Cachuma Project facilities to the member units.

14. M&T, Inc., Sacramento River Water Rights Contractors, CVP, California: A proposed exchange agreement with M&T, Inc. to take Butte Creek water rights water from the Sacramento River in exchange for CVP water to facilitate habitat restoration.

15. East Bay Municipal Utility District, CVP, California: Amendment to long-term water service contract No. 14-06-200-5183A to change the points of diversion and adjust water quantities. The amended contract will conform to current Reclamation law.

16. Madera and Lindsay-Strathmore IDs, and Delta Lands Reclamation District No. 770, CVP, California: Execution of 2-to 3-year Warren Act contracts for conveyance of non-project water in the Friant-Kern and/or Madera Canals when excess capacity exists.

17. Casitas Municipal WD, Ventura Project, California: Repayment contract for SOD work on Casitas Dam.

18. Centerville Community Services District, CVP, California: A long-term supplemental repayment contract for reimbursement to the United States for conveyance costs associated with CVP water conveyed to Centerville.

19. El Dorado ID, CVP, California: Execution of long-term Warren Act contract for conveyance of non-project water. This contract will allow CVP facilities to be used to deliver non-project water to the District for use within their service area.

20. Placer County Water Agency, CVP, California: Amendment of existing water service contract to allow for additional points of diversion and adjustment to CVP water quantities. The amended contract will conform to current Reclamation law.

21. Horsefly, Klamath, Langell Valley, and Tulelake IDs, Klamath Project, Oregon: Repayment contract for SOD work on Clear Lake Dam.

22. Warren Act Contracts, CVP, California: Execution of long-term Warren Act contracts (up to 25 years) with various entities for conveyance of non-project water in the Delta-Mendota Canal and the Friant Division facilities.

23. Tuolumne Utilities District (formerly Tuolumne Regional WD), CVP, California: Long-term water service contract for up to 9,000 acre-feet from New Melones Reservoir, and possibly a long-term contract for storage of non-project water in New Melones Reservoir.

24. City of Folsom, CVP, California: Contract to amend their water rights settlement contract's point of diversion.

25. Banta Carbona ID, CVP, California: Long-term Warren Act contract for conveyance of non-project water in the Delta-Mendota Canal.

26. Plain View WD, CVP, California: Long-term Warren Act contract for conveyance of non-project water in the Delta-Mendota Canal.

27. City of Redding, CVP, California: Amend water service contract No. 14-06-200-5272A for the purpose of renegotiating the provisions of contract Article 15, “Water Shortage and Apportionment,” to conform to current CVP M&I water shortage policy.

28. Tehama-Colusa Canal Authority, CVP, California: Amendment of existing long-term O&M agreement to also include the O&M of the Red Bluff Diversion Dam and related facilities and to implement certain changes to the Direct Funding provisions of the O&M agreement to comply with applicable Federal law.

29. Byron-Bethany ID, CVP, California: Long-term Warren Act contract for conveyance of non-project water in the Delta-Mendota Canal.

30. Resource Renewal Institute, CVP, California: Proposed water purchase agreement with Resource Renewal Institute for the permanent purchase of water rights on Butte Creek for instream flow purposes.

31. Sacramento Area Flood Control Agency, CVP, California: Execution of a long-term operations agreement for flood control operations of Folsom Dam and Reservoir to allow for recovery of costs associated with operating a variable flood control pool of 400,000 to 670,000 acre-feet of water during the flood control season. This agreement is to conform to Federal law.

32. Lower Tule River, Porterville, and Vandalia IDs, and Pioneer Water Company, Success Project, California: Repayment contract for the SOD costs assigned to the irrigation purpose of Success Dam.

33. Colusa County WD, CVP, California: Proposed long-term Warren Act contract for conveyance of up to 4,500 acre-feet of ground water through the Tehama-Colusa Canal.

34. Banta-Carbona and The West Side IDs, CVP, California: Assignment of 5,000 acre-feet of each district's water service contract to the City of Tracy. The assignment will require approval of conversion of the districts' CVP irrigation water to M&I water.

35. Friant Water Users Authority and San Luis and Delta-Mendota Water Authority, CVP, California: Amendments to the Operation, Maintenance, and Replacement and Certain Financial and Administrative Activities' Agreements to implement certain changes to the Direct Funding provisions to comply with applicable Federal law.

36. Monterey County Water Resources Agency, SRPA, California: Proposed contract amendment to provide for deferral of installments of construction charges under a SRPA loan repayment contract.

37. Monterey Regional Water Pollution Control Agency, SRPA, California: Proposed contract amendment to provide for deferral of installments of construction charges under a SRPA loan repayment contract.

38. Madera-Chowchilla Water and Power Authority, CVP, California: Agreement to transfer the operation, maintenance, and replacement and certain financial and administrative activities related to the Madera Canal and associated works.

39. Truckee-Carson ID, Newlands Project, Nevada: Amendment to O&M contract No. 7-07-20-X0348 to include mutually agreed upon Consumer Price Index for the current year and incorporation of a new Consumer Price Index as determined by the Contracting Officer applicable to Fallon, Nevada (or the nearest urban area in the event that such index is not determined for Fallon, Nevada).

40. Clear Creek Community Services District, CVP, California: Contract to transfer title to Clear Creek South Unit to the District.

41. El Dorado ID, CVP, California: Title transfer agreement for conveyance of CVP facilities. This agreement will allow transfer of title for Sly Park Dam, Jenkinson Lake, and appurtenant facilities from the CVP to the El Dorado ID.

42. Foresthill Public Utilities District, CVP, California: Title transfer agreement for conveyance of CVP facilities. This agreement will allow transfer of title for Sugarpine Dam and appurtenant facilities from the CVP to Foresthill Public Utility District.

43. Carpinteria WD, Cachuma Project, California: Contract to transfer title to Carpinteria Distribution System to the District.

44. Monticito WD, Cachuma Project, California: Contract to transfer title to Monticito Distribution System to the District.

45. Delano-Earlimart, Exeter, Ivanhoe, Lindmore, Lindsay-Strathmore, Madera, Shafter Wasco, and Stone Corral IDs; South San Joaquin Municipal Utilities District; and Tea Pot Dome WD, Friant Unit, CVP, California: Contract to transfer title to 11 distribution systems to the respective districts.

46. City of Vallejo, Solano Project, California: Execution of long-term Warren Act Contract for conveyance of non-project water. This contract will allow Solano Project facilities to be used to deliver non-project water to the City of Vallejo for use within their service area.

47. Northridge WD, CVP, California: Execution of long-term Warren Act Contract for conveyance of non-project water. This contract will allow CVP facilities to be used to deliver non-project water to the Northridge WD for use within their service area.

The following contract action has been completed since the last publication of this notice on October 16, 2000.

1. (5) Townsend Flat Ditch Company, or its shareholders, Centerville Community Services District and McConnell Foundation, CVP, California: Proposed exchange contract for 6,000 acre-feet of water in relation to the Clear Creek restoration and fish passage program in Section 3406(b)12) of the Central Valley Project Improvement Act. Contract Nos. 00-WC-20-1707 and 00-WC-20-1708 executed August 11, 2000.

Lower Colorado Region: Bureau of Reclamation, PO Box 61470 (Nevada Highway and Park Street), Boulder City, Nevada 89006-1470, telephone 702-293-8536.

1. Milton and Jean Phillips, Cameron Brothers Construction Company, Ogram Farms, John J. Peach, Sunkist Growers, Inc., BCP, Arizona: Colorado River water delivery contracts as recommended by the Arizona Department of Water Resources with agricultural entities located near the Colorado River for up to 3,168 acre-feet per year total.

2. Armon Curtis, Arlin Dulin, Jack Rayner, Glen Curtis, Jamar Produce Corporation, and Ansel T. Hall, BCP, Arizona: Amendatory Colorado River water delivery contracts to exempt each referenced contractor from the acreage limitation and full-cost pricing provisions of the RRA.

3. Brooke and Havasu Water Companies, BCP, Arizona: Contracts for additional Colorado River water to entities located along the Colorado River in Arizona for up to 1,540 acre-feet per year for domestic uses as recommended by the Arizona Department of Water Resources.

4. National Park Service for Lake Mead National Recreation Area, Supreme Court Decree in Arizona v. California, and BCP in Arizona and Nevada: Agreement for delivery of Colorado River water for the National Park Service's Federal Establishment PPR for diversion of 500 acre-feet annually and the National Park Service's Federal Establishment PPR to Executive Order No. 5125 (April 25, 1930).

5. Mohave Valley IDD, BCP, Arizona: Amendment of current contract for additional Colorado River water, change in service area and diversion points, RRA exemption, and PPRs.

6. Miscellaneous PPR entitlement holders, BCP, Arizona and California: New contracts for entitlement to Colorado River water as decreed by the U.S. Supreme Court in Arizona v. California, as supplemented or amended, and as required by section 5 of the Boulder Canyon Project Act. Miscellaneous PPRs holders are listed in the January 9, 1979, Supreme Court Supplemental Decree in Arizona v. California et al.

7. Miscellaneous present PPR No. 11, BCP, Arizona: Assign a portion of the PPR from Holpal to McNulty et al.

8. Federal Establishment PPRs entitlement holders, BCP: Individual contracts for administration of Colorado River water entitlement of the Colorado River, Fort Mojave, Quechan, Chemehuevi, and Cocopah Indian Tribes.

9. United States facilities, BCP, California: Reservation of Colorado River water for use at existing Federal facilities and lands administered by Reclamation.

10. Bureau of Land Management, BCP, Arizona: Contract for 1,176 acre-feet per year, for irrigation use, of Arizona's Colorado River water that is not used by higher priority Arizona entitlement holders.

11. Curtis Family Trust et al., BCP, Arizona: Contract for 2,100 acre-feet per year of Colorado River water for irrigation.

12. Beattie Farms SW, BCP, Arizona: Contract for 1,890 acre-feet per year of unused Arizona entitlement of Colorado River water for irrigation use.

13. U.S. Fish and Wildlife Service, Lower Colorado River Refuge Complex, BCP, Arizona: Agreement to administer the Colorado River water entitlement for refuge lands located in Arizona to resolve water rights coordination issues and to provide for an additional entitlement for non-consumptive use of flow through water.

14. Hillander C ID, Colorado River Basin Salinity Control Project, Arizona: Colorado River water delivery contract for 4,500 acre-feet per year.

15. Maricopa-Stanfield IDD, CAP, Arizona: Amend distribution system repayment contract No. 4-07-30-W0047 to reschedule repayment pursuant to June 28, 1996, agreement.

16. Indian and non-Indian agricultural and M&I water users, CAP, Arizona: New and amendatory contracts for repayment of Federal expenditures for construction of distribution systems.

17. Tohono O'odham Nation, SRPA, Arizona: Repayment contract for a $7.3 million loan for the Schuk Toak District.

18. San Tan ID, CAP, Arizona: Amend distribution system repayment contract No. 6-07-30-W0120 to increase the repayment obligation by approximately $168,000.

19. Central Arizona Drainage and ID, CAP, Arizona: Amend distribution system repayment contract No. 4-07-30-W0048 to modify repayment terms pursuant to final order issued by U.S. Bankruptcy Court, District of Arizona.

20. City of Needles, Lower Colorado Water Supply Project, California: Amend contract No. 2-07-30-W0280 to extend Needles' water service subcontracting authority to the Counties of Imperial and Riverside.

21. Imperial ID/Coachella Valley WD and/or The Metropolitan WD of Southern California, BCP, California: Contract to fund the Department of the Interior's expenses to conserve All-American Canal seepage water in accordance with Title II of the San Luis Rey Indian Water Rights Settlement Act dated November 17, 1988.

22. Coachella Valley WD and/or The Metropolitan WD of Southern California, BCP, California: Contract to fund the Department of the Interior's expenses to conserve seepage water from the Coachella Branch of the All-American Canal in accordance with Title II of the San Luis Rey Indian Water Rights Settlement Act, dated November 17, 1988.

23. Southern Nevada Water Authority, Robert B. Griffith Water Project, BCP, Nevada: Amend the repayment contract to provide for the incorporation of the Griffith Project into the expanded southern Nevada Water System, funded and built by Southern Nevada Water Authority, to facilitate the diversion, treatment, and conveyance of additional water out of Lake Mead for which the Authority has an existing entitlement to use.

24. Salt River-Pima Maricopa Indian Community, CAP, Arizona: O&M contract for its CAP water distribution system.

25. U.S. Army Proving Ground, BCP, Arizona: Amend agreement to add additional points of diversion for Colorado River water.

26. Arizona State Land Department, BCP, Arizona: Colorado River water delivery contract for 1,535 acre-feet per year for domestic use.

27. Miscellaneous PPR No. 38, BCP, California: Assign Schroeder's portion of the PPR to Murphy Broadcasting and change the place and type of water use.

28. Berneil Water Company, CAP, Arizona: Water service contracts associated with partial assignment of water service to the Cave Creek Water Company.

29. Tohono O'odham Nation, CAP, Arizona: Repayment contract for construction costs associated with water distribution system for Central Arizona IDD.

30. Tohono O'odham Nation, CAP, Arizona: Contracts for Schuk Toak and San Xavier Districts for repayment of Federal expenditures for construction of distribution systems.

31. Canyon Forest Village II Corporation, BCP, Arizona: Colorado River water delivery contract for up to 400 acre-feet per year of unused Arizona apportionment or surplus apportionment for domestic use.

32. Gila Project Works, Gila Project, Arizona: Title transfer of facilities and certain lands in the Wellton-Mohawk Division from the United States to the Wellton-Mohawk IDD.

33. ASARCO Inc., CAP, Arizona: Amendment to extend deadline for giving notice of termination on exchange subcontract to December 31, 2001.

34. BHP Copper, Inc., CAP, Arizona: Amendment to extend deadline for giving notice of termination on exchange subcontract to December 31, 2001.

35. Cyprus Miami Mining Corporation, CAP, Arizona: Amendment to extend deadline for giving notice of termination on exchange subcontract to December 31, 2001.

36. Agricultural and M&I water users, CAP, Arizona: Water service subcontracts for percentages of available supply reallocated in 1992 for irrigation entities and up to 640,000 acre-feet per year allocated in 1983 for M&I use.

37. Southern Nevada Water Authority, Robert B. Griffith Water Project, Nevada: Title transfer of physical facilities with interest in acquired lands and grant or assignment of perpetual rights or easements over Federal lands.

38. Hohokam IDD, CAP, Arizona: Amend water distribution system repayment contract to reflect final project costs.

39. Gila River Indian Community, CAP, Arizona: Amend CAP water delivery contact and distribution system repayment and operation, maintenance, and replacement contract pursuant to anticipated Gila River Indian Community Water Rights Settlement Agreement.

40. Basic Management, Inc., Salinity Project, Nevada: Title transfer of the Pitman Wash Bypass Demonstration Project Facilities and all interests in acquired lands and easements associated with an obligation to continue bypassing the water in Pitman Wash.

41. BHP Copper, Inc., CAP, Arizona: Proposed agreement and amendments to CAP water delivery subcontracts to transfer BHP Copper's CAP water allocation to the City of Scottsdale, Town of Carefree, and Tonto Hills Utility Company.

42. California WDs, BCP, California: Incorporate into the water delivery contracts with several water districts (Coachella Valley WD, Imperial ID, Palo Verde ID, and The Metropolitan WD of Southern California), through new contracts, contract amendments, contract approvals, or other appropriate means, the agreement to be reached with those water districts to (i) quantity the Colorado River water entitlements for Coachella Valley WD and Imperial ID and (ii) provide a basis for water transfers among California water districts.

43. Coachella Valley WD, BCP, California: Amend contract designated symbol 14-20-650, contract No. 631, which authorizes the United States to construct irrigation and drainage works for certain Indian lands within the District, to provide for construction of necessary facilities to allow water deliveries for irrigation of up to 322 acres of lands on the Torres-Martinez Indian Reservation located within the Coachella Valley WD's Improvement District No. 1.

44. North Gila Valley IDD, Yuma ID, and Yuma Mesa IDD, Yuma Mesa Division, Gila Project, Arizona: Administrative action to amend each district's Colorado River water delivery contract to effectuate a change from a “pooled” water entitlement for the Division to a quantified entitlement for each district.

45. Indian and/or non-Indian M&I users, CAP, Arizona: New or amendatory water service contracts or subcontracts in accordance with an anticipated final record of decision for reallocation CAP water, as discussed in the Secretary of the Interior's notice published on page 41456 of the FR on July 30, 1999.

46. San Carlos-Apache Tribe, CAP, Arizona: Agreement among the United States, Salt River Project Agricultural Improvement and Power District, and the Salt River Valley Water User's Association for exchange of up to 14,000 acre-feet of Black River Water for CAP water.

47. San Carlos-Apache Tribe, Arizona: Agreement among the San Carlos-Apache Tribe, the United States, and the Phelps Dodge Corporation for the lease of Black River Water.

48. Arizona Water Banking Authority and Southern Nevada Water Authority, BCP, Arizona and Nevada: Contract to provide for the interstate contractual distribution of Colorado River water through the offstream storage of Colorado River water in Arizona, the development by the Arizona Water Banking Authority of intentionally created unused apportionment, and the release of this intentionally created unused apportionment by the Secretary of the Interior to Southern Nevada Water Authority.

49. Gila River Farms, Arizona: Amendment of SRPA contract to restructure the repayment schedule.

50. Litchfield Park Service Company, CAP, Arizona: Proposed assignment of 5,580 acre-feet of CAP M&I water to the Central Arizona Groundwater Replenishment District and to the Cities of Avondale, Carefree, and Goodyear.

51. Shepard Water Company, Inc., Arizona: Contract for the delivery of 50 acre-feet of domestic water.

52. The United States International Boundary and Water Commission, The Metropolitan WD of Southern California, San Diego County Water Authority, and Otay WD, Mexican Treaty Waters: Agreement for the temporary emergency delivery of a portion of the Mexican Treaty waters of the Colorado River to the International Boundary in the vicinity of Tijuana, Baja California, Mexico.

53. Arizona State Land Department, CAP, Arizona: Proposed assignment of 1,000 acre-feet of the Department's CAP M&I water entitlement to the City of Peoria.

54. City of Chandler, CAP, Arizona: Proposed amendment of CAP water delivery subcontract to delete provision requiring offsetting reduction of Chandler's CAP water entitlement for quantities of water received in a direct effluent exchange with an Indian community.

55. City of Mesa, CAP, Arizona: Proposed amendment of CAP water delivery subcontract to delete provision requiring offsetting reduction of Mesa's CAP water entitlement for quantities of water received in a direct effluent exchange with an Indian community.

The following contract actions have been discontinued since the last publication of this notice on October 16, 2000.

1. (13) Arizona Game and Fish Department, BCP, Arizona: Contract for 250 acre-feet per year of unused Arizona entitlement of Colorado River water for environmental use until a permanent water supply can be obtained.

2. (26) Bullhead City, BCP, Arizona: Assignment of annual 1,800 acre-feet of Colorado River water entitlement and associated service area from Mohave County Water Conservation District to Bullhead City, Arizona.

3. (27) U.S. Army Proving Ground, BCP, Arizona: Agreement of 1,883 acre-feet of Colorado River water per year.

4. (33) Don Schuler, BCP, California: Temporary delivery contract for surplus and/or unused apportionment Colorado River water for domestic and industrial use on 18 lots of recreational homes.

5. (62) Central Arizona Water Conservation District, CAP, Arizona: Agreement for delivery of CAP excess water to the Gila River Indian Community and the San Carlos IDD in exchange for San Carlos Reservoir water.

The following contract actions have been completed since the last publication of this notice on October 16, 2000.

1. (9) United States facilities, BCP, Arizona: Reservation of Colorado River water for use at existing Federal facilities and lands administered by Reclamation. (This action has been completed in Arizona, but is still listed in this report for California).

2. (41) BHP Copper, Inc., CAP, Arizona: Amendment to extend deadline for giving notice of termination on exchange subcontract to December 31, 2000.

3. (42) Cyprus Miami Mining Corporation, CAP, Arizona: Amendment to extend deadline for giving notice of termination on exchange subcontract to December 31, 2000.

4. (43) Bureau of Reclamation, BCP, Arizona and California: Surplus Colorado River water entitlements for environmental habitat improvement projects.

Upper Colorado Region: Bureau of Reclamation, 125 South State Street, Room 6107, Salt Lake City, Utah 84138-1102, telephone 801-524-4419.

1. Individual irrigators, M&I, and miscellaneous water users, Initial Units, CRSP; Utah, Wyoming, Colorado, and New Mexico: Temporary (interim) water service contracts for surplus project water for irrigation or M&I use to provide up to 10,000 acre-feet of water annually for terms up to 10 years; long-term contracts for similar service for up to 1,000 acre-feet of water annually.

(a) Harrison F. and Patricia E. Russell, Aspinall Unit, CRSP, Colorado: Contract for 1 acre-foot to support an augmentation plan, Case No. 97CW39, Water Division Court No. 4, State of Colorado, to provide for a single-family residential well, including home lawn and livestock watering (non-commercial).

(b) City of Page, Arizona, Glen Canyon Unit, CRSP, Arizona: Long-term contract for 1,000 acre-feet of water for municipal purposes.

(c) LeChee Chapter of the Navajo Nation, Glen Canyon Unit, CRSP, Arizona: Long-term contract for 1,000 acre-feet for municipal purposes.

(d) Walter Daniel Stephens, Aspinall Unit, CRSP, Colorado: Contract for 2 acre-feet to support an augmentation plan, Case No. 97CW49, Water Division Court No. 4, State of Colorado, to provide for pond evaporative depletions during the non-irrigation season.

(e) Daggett County, Utah, Flaming Gorge Unit, CRSP, Utah: M&I water service contract covering payment for and delivery of 1,000 acre-feet of untreated water as required by Section 10(k)(2) of Public Law 105-326.

2. San Juan-Chama Project, New Mexico: San Juan Pueblo repayment contract for up to 2,000 acre-feet of project water for irrigation purposes. Taos Area—The Taos area Acequias, the Town and County of Taos are forming a joint powers agreement to form an organization to enter into a repayment contract for up to 2,990 acre-feet of project water to be used for irrigation and M&I in the Taos, New Mexico area.

3. Carlsbad ID, Carlsbad Project, New Mexico: Contract to provide for repayment of the District's 15 percent share of proposed modifications to Avalon Dam under the SOD program.

4. The National Park Service, Colorado Water Conservation Board, Wayne N. Aspinall Unit, CRSP, Colorado: Contract to provide specific river flow patterns in the Gunnison River through the Black Canyon of the Gunnison National Monument.

5. Upper Gunnison River Water Conservancy District, Wayne N. Aspinall Unit, CRSP, Colorado: A long-term water service contract for up to 25,000 acre-feet for irrigation use.

6. Upper Gunnison River Water Conservancy District, Wayne N. Aspinall Unit, CRSP, Colorado: Substitute supply plan for the administration of the Gunnison River.

7. Uncompahgre Valley Water Users Association, Upper Gunnison River Water Conservancy District, Colorado River Water Conservation District, Uncompahgre Project, Colorado: Water management agreement for water stored at Taylor Park Reservoir and the Wayne N. Aspinall Storage Units to improve water management.

8. Southern Ute Indian Tribe, Florida Project, Colorado: Supplement to contract No. 14-06-400-3038, dated May 7, 1963, for an additional 181 acre-feet of project water, plus 563 acre-feet of water pursuant to the 1986 Colorado Ute Indian Water Rights Final Settlement Agreement.

9. Grand Valley Water Users Association, Orchard Mesa ID, and Public Service Company of Colorado, Grand Valley Project, Colorado: Water service contract for the utilization of project water for cooling purposes for a steam electric generation plant.

10. Public Service Company of New Mexico, CRSP, Navajo Unit, New Mexico: New water service contract for a depletion of 16,200 acre-feet of project water for cooling purposes for a steam electric generation plant.

11. Sanpete County Water Conservancy District, Narrows Project, Utah: Application for a SRPA loan and grant to construct a dam, reservoir, and pipeline to annually supply approximately 5,000 acre-feet of water through a transmountain diversion from upper Gooseberry Creek in the Price River drainage (Colorado River Basin) to the San Pitch—Savor River (Great Basin).

12. Individual irrigators, Carlsbad Project, New Mexico: The United States proposes to enter into long-term forbearance lease agreements with individuals who have privately held water rights to divert non-project water either directly from the Pecos River or from shallow/artesian wells in the Pecos River Watershed. This action will result in additional water in the Pecos River to make up for the water depletions caused by changes in operations at Sumner Dam which were made to improve conditions for a threatened species, the Pecos bluntnose shiner.

13. Dolores Water Conservancy District, Dolores Project, Colorado: Carriage contract with the District to carry up to 8,000 acre-feet of non-project water in project facilities under the authority of the Warren Act of 1911.

14. Various contractors, San Juan-Chama Project, New Mexico: The United States proposes to purchase lease water from various contractors to stabilize flows in a critical reach of the Rio Grande in order to meet the needs of irrigators and preserve habitat for the silvery minnow.

15. Ogden River Water Users Association and Weber Basin Water Conservancy District, Ogden River and Weber Basin Projects, Utah: Contract to provide for repayment of water users portion of construction contract due to SOD investigations recommendations at Pineview Dam.

The following contract actions have been discontinued since the last publication of this notice on October 16, 2000.

1. (2) Southern Ute Indian Tribe, Animas-La Plata Project, Colorado: Repayment contract for 26,500 acre-feet per year for M&I use and 2,600 acre-feet per year for irrigation use in Phase One and 700 acre-feet in Phase Two; contract terms to be consistent with binding cost-sharing agreement and water rights settlement agreement.

2. (3) Ute Mountain Ute Tribe, Animas-La Plata Project, Colorado and New Mexico: Repayment contract; 6,000 acre-feet per year for M&I use in Colorado; 26,400 acre-feet per year for irrigation use in Colorado; 900 acre-feet per year for irrigation use in New Mexico; contract terms to be consistent with binding cost-sharing agreement and water rights settlement agreement.

The following contract action has been completed since the last publication of this notice on October 16, 2000.

1. (1)(g) James F. Squirrell, Aspinall Unit, CRSP, Colorado: Ten-year contract for 23 acre-feet of M&I water to support the augmentation plan. Mr. Squirrell has filed a Finding of Fact and Ruling of Referee with the Division 4 Water Court of the State of Colorado, case No. 97-CW-223, dated July 7, 1999. The augmentation plan requires Mr. Squirrell to augment out-of-priority depletions caused by the operation of the Arrowhead Subdivision's potable water supply system.

Great Plains Region: Bureau of Reclamation, PO Box 36900, Federal Building, 316 North 26th Street, Billings, Montana 59107-6900, telephone 406-247-7730.

1. Individual irrigators, M&I, and miscellaneous water users: Colorado, Kansas, Montana, Nebraska, North Dakota, Oklahoma, South Dakota, Texas, and Wyoming: Temporary (interim) water service contracts for the sale, conveyance, storage, and exchange of surplus project water and non-project water for irrigation or M&I use to provide up to 10,000 acre-feet of water annually for a term up to 1 year.

2. Green Mountain Reservoir, Colorado-Big Thompson Project, Colorado: Water service contracts for irrigation and M&I; contract negotiations for sale of water from the marketable yield to water users within the Colorado River Basin of western Colorado.

3. Ruedi Reservoir, Fryingpan-Arkansas Project, Colorado: Second round water sales from the regulatory capacity of Ruedi Reservoir. Water service and repayment contracts for up to 17,000 acre-feet annually for M&I use; contract with Colorado Water Conservation Board and the U.S. Fish and Wildlife Service for 10,825 acre-feet for endangered fishes.

4. Garrison Diversion Unit, P-SMBP, North Dakota: Renegotiation of the master repayment contract with Garrison Diversion Conservancy District to conform with the Garrison Diversion Unit Reformulation Act of 1986; negotiation of repayment contracts with irrigators and M&I users.

5. City of Rapid City, Rapid Valley Unit, P-SMBP, South Dakota: Contract renewal for storage capacity in Pactola Reservoir. A temporary (1 year not to exceed 10,000 acre-feet) water service contract will be negotiated with the Rapid Valley Water Conservancy District, Rapid Valley Unit, for use of water from Pactola Reservoir.

6. Pathfinder ID, North Platte Project, Nebraska: Negotiation of contract regarding SOD program modification of Lake Alice Dam No. 1 Filter/Drain.

7. Northern Cheyenne Indian Reservation, Yellowtail Unit, Lower Bighorn Division, P-SMBP, Montana: The Northern Cheyenne Reserved Water Rights Settlement Act of 1992 allocates to the Tribe, 30,000 acre-feet of water per year stored at Bighorn Reservoir, Montana. In accordance with section 9 of the Act, Reclamation and the Tribe must negotiate an agreement for the water. The Tribe is to pay the United States both capital and O&M costs for water the Tribe uses or sells from this storage for M&I purposes. Reclamation and the Tribe are continuing to negotiate the terms of the agreement. The agreement has been sent to the Tribe for signature. A date for execution has not been scheduled.

8. Mid-Dakota Rural Water System, Inc., South Dakota: Pursuant to the Reclamation Projects Authorization and Adjustment Act of 1992, the Secretary of the Interior is authorized to make grants and loans to Mid-Dakota Rural Water System, Inc., a non-profit corporation for the planning and construction of a rural water supply system.

9. Angostura ID, Angostura Unit, P-SMBP, South Dakota: Another interim 3-year contract was executed on June 9, 2000, to provide for a continuing water supply and allow adequate time for completion of the Environmental Impact Statement for long-term contract renewal. A BON for a long-term contract renewal has been sent to the Denver Office for review/approval by the Commissioner's Office.

10. Cities of Loveland and Berthoud, Colorado, Colorado-Big Thompson Project, Colorado: Long-term contracts for conveyance of non-project M&I water through Colorado-Big Thompson Project facilities pursuant to the Town Sites and Power Development Act of 1906. The BON has been approved by the Commissioner.

11. Northwest Area Water Supply, North Dakota: Long-term contract for water supply from Garrison Diversion Unit facilities. The BON has been approved by the Commissioner. Negotiations are pending.

12. P-SMBP, Kansas: Existing water service contracts with the Kirwin and Webster IDs in the Solomon River Basin in Kansas were extended for a period of 4 years in accordance with Public Law 104-326. These contracts will be renewed prior to their expiration on December 31, 2003 (Kirwin ID) and December 31, 2005 (Webster ID). It is anticipated that a draft environmental assessment will be prepared by July 2001 and the final environmental assessment will be completed prior to executing the contracts.

13. City of Cheyenne, Kendrick Project, Wyoming: Negotiation of a contract to renew for an additional term of 5 years. Contract for up to 10,000 acre-feet of storage space for replacement water on a yearly basis in Seminoe Reservoir. A temporary contract has been issued pending negotiation of the long-term contract.

14. Highland-Hanover ID, P-SMBP, Hanover-Bluff Unit, Wyoming: Renegotiation of long-term water service contract; includes provisions for repayment of construction costs.

15. Upper Bluff ID, P-SMBP, Hanover-Bluff Unit, Wyoming: Renegotiation of long-term water service contract; includes provisions for repayment of construction cost.

16. Fort Clark ID, P-SMBP, North Dakota: Negotiation of a water service contract to continue delivery of project water to the District.

17. Nueces River Project, Texas: Recalculate existing contract repayment schedule to conform with the provisions of the Emergency Drought Relief Act of 1996. The revised schedule is to reflect a 5-year deferment of payments. Received approval of the BON from the Commissioner and a public notice has been printed in the Corpus Christi Caller-Times.

18. Western Heart River ID, P-SMBP, Heart Butte Unit, North Dakota: Negotiation of a water service contract to continue delivery of project water to the District.

19. Lower Marias Unit, P-SMBP, Montana: Water service contract expired in July 2000. Initiating renewal of existing contract for 25 years for up to 480 acre-feet of storage from Tiber Reservoir to irrigate 160 acres. Received approved BON from the Commissioner. Currently performing a water availability study and consulting with the Tribes regarding the Water Rights Compact. A 1-year interim contract will be issued to continue delivery of water until the necessary actions can be completed to renew a long-term contract.

20. Lower Marias Unit, P-SMBP, Montana: Initiating 25-year water service contract for up to 750 acre-feet of storage from Tiber Reservoir to irrigate 250 acres. A 1-year temporary contract has been issued to allow additional time to complete necessary actions required for the long-term contract. Another 1-year temporary has been issued to continue delivery of water until the long-term renewal process can be completed.

21. Lower Marias Unit, P-SMBP, Montana: Water service contract expired May 2000. Initiating renewal of existing long-term contract for 25 years for up to 4,570 acre-feet of storage from Tiber Reservoir to irrigate 2,285 acres. Currently performing a water availability study and consulting with the Tribes regarding the Water Rights Compact. A 1-year interim contract has been issued to continue delivery of water until the necessary actions can be completed to renew the long-term contract. Another 1-year temporary will be issued to continue delivery of water until the long-term renewal process can be completed.

22. Dickinson-Heart River Mutual Aid Corporation, P-SMBP, Dickinson Unit, North Dakota: Negotiate renewal of water service contract for irrigation of lands below Dickinson Dam in western North Dakota.

23. Savage ID, P-SMBP, Montana: A second interim contract has been entered into with the District. The District is currently seeking title transfer. The contract is subject to renewal on an annual basis pending outcome of the title transfer process.

24. City of Fort Collins, Colorado-Big Thompson Project, Colorado: Long-term contracts for conveyance and storage of non-project M&I water through Colorado-Big Thompson Project facilities pursuant to the Town Sites and Power Development Act of 1906.

25. Green Mountain Project, Colorado: Historic user pool contracts for surplus water for recreation. This contract is to benefit the endangered fish.

26. Keith Bower (Individual), P-SMBP, Boysen Unit, Wyoming: Contract for up to 500 acre-feet of irrigation water to service 144 acres.

27. Canyon Limited Liability (Individual), P-SMBP, Boysen Unit, Wyoming: Contract for up to 16 acre-feet of supplemental irrigation water to service 4 acres.

28. L.U. Sheep Company (Individual), P-SMBP, Boysen Unit, Wyoming: Contract for up to 60 acre-feet of irrigation water to service 180 acres.

29. Northern Colorado Water Conservancy District, Colorado-Big Thompson Project, Colorado: Acting by and through the Pleasant Valley Pipeline Project Water Activity Enterprise, beginning discussions and draft BON for a long-term contract for conveyance of non-project water through Colorado-Big Thompson Project facilities.

30. Standing Rock Sioux Tribe, P-SMBP, North Dakota: Negotiate a long-term water service contract with the Standing Rock Sioux Tribe in North Dakota for irrigation of up to 2,380 acres of land within the reservation.

31. North Fork Valley Ditch (Individual), Shoshone Project, Buffalo Bill Dam, Wyoming: Exchange water service contract not to exceed 1,000 acre-feet of water to service 855 acres.

32. Virginia L. and Earl K. Sauerwein (Individual), Shoshone Project, Buffalo Bill Dam, Wyoming: Exchange water service contract not to exceed 100 acre-feet of water to service 126 acres.

33. Denise J. Evans (Individual), Shoshone Project, Buffalo Bill Dam, Wyoming: Exchange water service contract not to exceed 100 acre-feet of water to service 48.5 acres.

34. Glendo Unit, P-SMBP, Wyoming: Contract amendment to long-term water service contracts for Burbank Ditch, New Grattan Ditch Company, Torrington ID, Lucerne Canal and Power Company, and Wright and Murphy Ditch Company pursuant to Public Law 105-293, as amended in October 2000.

35. Glendo Unit, P-SMBP, Nebraska: Contract amendment to long-term water service contracts for Bridgeport, Enterprise, and Mitchell IDs, and Central Nebraska Public Power and ID pursuant to Public Law 105-293, as amended in October 2000.

36. Tom Green County Water Control and Improvement District No. 1, San Angelo Project, Texas: The District has requested deferment of its 2001 construction payment. Received approval of the BON and delegation of authority to execute an amendment for deferment of the 2001 construction charge installment from the Commissioner. A public notice has been printed in the San Angelo Times.

37. Belle Fourche ID, Belle Fourche Project, South Dakota: Contract amendment to reduce their required annual payment to be more commensurate with the ability to pay.

38. Helena Valley Unit, P-SMBP, Montana: Initiating negotiations for renewal of Part A of the A/B contract with Helena Valley ID which expires in 2003.

39. Crow Creek Unit, P-SMBP, Montana: Initiating negotiations for renewal of Part A of the A/B contract with Toston ID which expires in 2004.

40. Louis F. Polk, Jr. (Individual), Shoshone Project, Buffalo Bill Dam, Wyoming: Exchange water service contract not to exceed 500 acre-feet of water to service 249 acres.

The following contract actions have been completed since the last publication of this notice on October 16, 2000.

1. (27) Fryingpan-Arkansas Project, Colorado: Proposed contract amendment to contract No. 9-07-70-W099 with Busk-Ivanhoe, Inc. Contract has been executed.

2. (29) Fryingpan-Arkansas Project, Colorado: Pueblo Board of Wter Works, long-term storage and conveyance contract.

3. (36) Northern Colorado Water Conservancy District, Colorado-Big Thompson Project, Colorado: SOD repayment contract negotiations for modification to Horsetooth Dam.

4. (42) Fryingpan-Arkansas Project, Colorado: Pueblo Board of Water Works, long-term conveyance contract.

Dated: February 26, 2001.
Sandra L. Simons,
Acting Deputy Director, Office of Policy.

[FR Doc. 01-5233 Filed 3-2-01; 8:45 am]

BILLING CODE 4310-MN-P